DEPARTMENT OF TRANSPORTATION

Coast Guard

33 CFR Part 117

[CGD01-01-023]

Drawbridge Operation Regulations: Kennebec River, ME

AGENCY: Coast Guard, DOT.

ACTION: Notice of temporary deviation from regulations.

SUMMARY: The Commander, First Coast Guard District, has issued a temporary deviation from the drawbridge operation regulations for the Carlton Bridge, mile 14.0, across the Kennebec River between Bath and Woolwich, Maine. This deviation from the regulations authorizes the bridge owner to need not open the Carlton Bridge for vessel traffic from April 2, 2001 through May 13, 2001. This deviation is necessary in order to facilitate necessary repairs at the bridge.

DATES: This deviation is effective from April 2, 2001, through May 13, 2001.

FOR FURTHER INFORMATION CONTACT: John McDonald, Project Officer, First Coast Guard District, at (617) 223-8364.

SUPPLEMENTARY INFORMATION: The Carlton Bridge, at mile 14.0, across the Kennebec River has a vertical clearance in the closed position of 10 feet at mean high water and 16 feet at mean low water. The existing drawbridge operating regulations are listed at 33 CFR 117.525.

The bridge owner, Maine Department of Transportation (MDOT), requested a temporary deviation from the drawbridge operating regulations to facilitate the rehabilitation repairs at the bridge. This deviation to the operating regulations authorizes the owner of the Carlton Bridge to need not open the bridge for the passage of vessel traffic from April 2, 2001 through May 13, 2001.

The bridge owner provided less than 30 days notice to the Coast Guard of its request to deviate from the drawbridge regulations on the specified dates. However, a deviation was previously approved to perform this work March 19, 2001 through April 30, 2001; that work was cancelled due to severe weather conditions during that period that required the Coast Guard to continue ice breaking operations on the Kennebec River through the end of March. These measures were deemed necessary by Coast Guard and Maine Emergency Management officials in order to avoid potential regional flooding along the Kennebec River. Delaying the commencement of this maintenance to require an additional 30 days notice would be unnecessary and contrary to the public interest this work involves maintenance that must be performed without undue delay.

In accordance with 33 CFR 117.35(c), this work will be performed with all due speed in order to return the bridge to normal operation as soon as possible. This deviation from the operating regulations is authorized under 33 CFR 117.35.

Dated: March 28, 2001.
G.N. Naccara,
Rear Admiral, U.S. Coast Guard, Commander, First Coast Guard District.

[FR Doc. 01-8639 Filed 4-6-01; 8:45 am]

BILLING CODE 4910-15-P